DEPARTMENT OF ENERGY

Federal Energy Regulatory Commission

[Docket No. CP16-38-000]

Columbia Gas Transmission, LLC; Notice of Availability of the Environmental Assessment for the Proposed WB Xpress Project

The staff of the Federal Energy Regulatory Commission (FERC or Commission) has prepared an environmental assessment (EA) for the WB XPress Project, proposed by Columbia Gas Transmission, LLC (Columbia) in the above-referenced docket. Columbia requests authorization to perform the following: (i) Installation, construction, and operation of about 29.3 miles of various diameter pipeline; (ii) modifications to seven existing compressor stations; (iii) construction and operation of two new compressor stations; (iv) uprates and restoration of the maximum allowable operating pressure (MAOP) on various segments of the existing WB and VB natural gas transmission pipeline systems; and (v) installation of various appurtenant and auxiliary facilities, all located in either Braxton, Clay, Grant, Hardy, Kanawha, Pendleton, Randolph, and Upshur Counties, West Virginia, or Clark, Fairfax, Fauquier, Loudoun, Shenandoah, or Warren Counties, Virginia.

The EA assesses the potential environmental effects of the construction and operation of the WB XPress Project in accordance with the requirements of the National Environmental Policy Act (NEPA). The FERC staff concludes that approval of the proposed project, with appropriate mitigating measures, would not constitute a major federal action significantly affecting the quality of the human environment.

The U.S. Forest Service (USFS), U.S. Fish and Wildlife Service, U.S. Army Corps of Engineers, West Virginia Department of Environmental Protection, and West Virginia Division of Natural Resources participated as cooperating agencies in the preparation of the EA. Cooperating agencies have jurisdiction by law or special expertise with respect to resources potentially affected by the proposal and participate in the NEPA analysis. The USFS and U.S. Army Corps of Engineers will adopt the EA to fulfill their agency's NEPA obligations. The USFS will use the EA, as well as other supporting documentation, to consider the issuance of right-of-way authorization for the portion of the project on National Forest System lands. The U.S. Army Corps of Engineers will use the EA and supporting documentation to consider the issuance of Clean Water Act Section 404 and Rivers and Harbors Act Section 10 permits.

The proposed WB XPress Project includes the following facilities:

West Virginia

Aboveground Facilities:

• One new West Virginia Compressor Station: A new, natural gas-fired compressor station at approximately MP 0.3 of the Line WB-5 Extension in Kanawha County, West Virginia.

• Installation of new valve sites and launcher/receiver facilities along Line WB-5 in Kanawha, Grant and Clay Counties, West Virginia.

• Modifications to increase horsepower at four (4) existing Compressor Stations including Cleveland, Files Creek, Seneca, and Lost River Compressor Stations in Upshur, Randolph, Pendleton, and Hardy Counties, West Virginia, respectively.

• Modifications to existing natural gas pipeline appurtenances at the Frametown Compressor Station in Braxton County, West Virginia.

• Modifications to four existing Valve Sites including Glady Valve Site in Randolph County, West Virginia; Dink Valve Site in Clay County, West Virginia; Whitmer and Smokehole in Pendleton County, West Virginia; and one regulator station, Panther Mountain Regulator Station, in Kanawha County, West Virginia.

Pipeline Facilities:

• Line WB-5 Extension: Installation of approximately 0.3 mile of new 36-inch-diameter natural gas transmission pipeline from the planned new Compressor Station to the Panther Mountain Regulator Station in Kanawha County, West Virginia.

• Line WB-22: Installation of approximately 0.6 mile of new 36-inch-diameter natural gas transmission pipeline from the proposed new West Virginia Compressor Stations to the Panther Regulator Station, ending at the proposed WB-22 Receiver Site in Kanawha County, West Virginia.

• Line WB: Generally lift and lay replacement of approximately 25.5 miles of 26-inch-diameter natural gas transmission pipeline loop and associated appurtenances in Randolph and Pendleton Counties, West Virginia.

• Line WB: Replacement of 5 sections, totaling approximately 0.3 mile of 26-inch-diameter natural gas transmission pipeline between Mileposts (MP) 134.6 and 146.4 in Pendleton, Grant, and Hardy Counties, West Virginia.

• Line WB-5: Replacement of approximately 1,185 feet (0.2 mile) of 36-inch-diameter natural gas transmission pipeline between MP 4.5 and MP 4.7 in Grant County, West Virginia.

MAOP Restoration:

• Line WB-5: Incremental pressure increase of approximately 72.4 miles of the Line WB-5 Segment to restore this segment to its originally certificated MAOP of 1,000 square inch gauge (psig) in Upshur, Randolph, Pendleton, Grant and Hardy Counties, West Virginia.

Uprate Segments:

• Line WB-6: Incremental pressure increase of approximately 2.4 miles of the Line WB-6 to 1,000 psig MAOP in Randolph County, West Virginia.

• Line WB-5: Incremental pressure increase of approximately 22.1 miles of the Line WB-5 Segment to 1,000 psig in Pendleton, Grant, and Hardy Counties, West Virginia.

Virginia

Aboveground Facilities:

• One new, electric-driven compressor station at approximately MP 0.0 of the proposed new Line VA-1 in Fairfax County, Virginia.

• Installation of a receiver facility at the end of the proposed Line VA-1, in Fairfax County, Virginia.

• Modifications to increase horsepower at the existing Strasburg Compressor Station located in Shenandoah County Virginia, in order to increase capacity for the transportation of additional volume along Columbia's Line VB natural gas pipeline system.

• Modifications to existing natural gas pipeline appurtenances at the Loudoun Compressor Station in Loudoun County, Virginia.

• Modifications to the existing Dysart Valve Site, in Shenandoah County, Virginia and one metering station, Nineveh Meter Station, in Warren County, Virginia.

Pipeline Facilities:

• Line VA-1: Installation of approximately 2.2 miles of new 12-inch-diameter natural gas transmission pipeline and associated appurtenances in Fairfax County, Virginia.

MAOP Restoration:

• Line VB-5: Incremental pressure increase of approximately 70.4 miles of the Line VB-5 Segment to restore this segment to its originally certificated MAOP of 1,000 psig in Shenandoah, Warren, Clark, Fauquier, and Loudoun Counties, Virginia.

The USFS's purpose and need for the proposed action is to respond to a special use application, submitted by Columbia on August 19, 2016, to allow the construction and operation of the WB XPress project on national forest system lands managed by the Monongahela National Forest.

The FERC staff mailed copies of the EA to federal, state, and local government representatives and agencies; elected officials; environmental and public interest groups; Native American tribes; potentially affected landowners; interested individuals and groups; and newspapers and libraries in the project area. Everyone on our environmental mailing list will receive a CD version of the EA. In addition, the EA is available for public viewing on the FERC's Web site (www.ferc.gov) using the eLibrary link. A limited number of copies of the EA are available for distribution and public inspection at: Federal Energy Regulatory Commission Public Reference Room 888 First Street NE., Room 2A Washington, DC 20426 (202) 502-8371.

Any person wishing to comment on the EA may do so. Your comments should focus on the potential environmental effects, reasonable alternatives, and measures to avoid or lessen environmental impacts. The more specific your comments, the more useful they will be. To ensure that the Commission has the opportunity to consider your comments prior to making its decision on this project, it is important that we receive your comments in Washington, DC on or before April 24, 2017.

For your convenience, there are three methods you can use to file your comments to the Commission. In all instances, please reference the project docket number (CP16-38-000) with your submission. The Commission encourages electronic filing of comments and has expert staff available to assist you at (202) 502-8258 or efiling@ferc.gov.

(1) You can file your comments electronically using the eComment feature on the Commission's Web site (www.ferc.gov) under the link to Documents and Filings. This is an easy method for submitting brief, text-only comments on a project;

(2) You can also file your comments electronically using the eFiling feature on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Any person seeking to become a party to the proceeding must file a motion to intervene pursuant to Rule 214 of the Commission's Rules of Practice and Procedures (18 CFR 385.214).¹ Only intervenors have the right to seek rehearing of the Commission's decision. The Commission grants affected landowners and others with environmental concerns intervenor status upon showing good cause by stating that they have a clear and direct interest in this proceeding which no other party can adequately represent. Simply filing environmental comments will not give you intervenor status, but you do not need intervenor status to have your comments considered.

¹ See the previous discussion on the methods for filing comments.

Additional information about the project is available from the Commission's Office of External Affairs, at (866) 208-FERC, or on the FERC Web site (www.ferc.gov) using the eLibrary link. Click on the eLibrary link, click on “General Search,” and enter the docket number excluding the last three digits in the Docket Number field (i.e., CP16-38). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Dated: March 24, 2017.
Kimberly D. Bose,
Secretary.

[FR Doc. 2017-06417 Filed 3-31-17; 8:45 am]

BILLING CODE 6717-01-P